DEPARTMENT OF HEALTH AND HUMAN SERVICES

Centers for Disease Control and Prevention

Disease, Disability, and Injury Prevention and Control Special Emphasis Panel: South Carolina Traumatic Brain Injury Follow-Up Study, Program Announcement #02073

In accordance with section 10(a)(2) of the Federal Advisory Committee Act (Pub. L. 92-463), the Centers for Disease Control and Prevention (CDC) announces the following meeting:

Name: Disease, Disability, and Injury Prevention and Control Special Emphasis Panel (SEP): South Carolina Traumatic Brain Injury Follow-Up Study, Program Announcement #02073.

Times and dates: 7:30 p.m.-7:45 p.m., June 11, 2003. (Open). 7:45 p.m.-9:30 p.m., June 11, 2003. (Closed). 8 a.m.-6:30 p.m., June 12, 2003. (Closed).

Place: The Francis Marion Hotel, 387 King Street, Charleston, SC 29403, Telephone 843-722-0600.

Status: Portions of the meeting will be closed to the public in accordance with provisions set forth in section 552b(c) (4) and (6), Title 5 U.S.C., and the Determination of the Director, Management Analysis and Services Office, CDC, pursuant to Public Law 92-463.

Matters to be Discussed: The meeting will include the review, discussion, and evaluation of applications received in response to Program Announcement #02073.

For Further Information Contact: Richard W. Sattin, M.D., F.A.C.P., Associate Director for Science, Associate Director for Division of Injury and Disability Outcomes and Programs, National Center for Injury Prevention and Control, CDC, 4770 Buford Highway, NE, MS-K02, Chamblee, GA 30341, Telephone 770-488-4031.

The Director, Management Analysis and Services Office, has been delegated the authority to sign Federal Register notices pertaining to announcements of meetings and other committee management activities, for both CDC and the Agency for Toxic Substances and Disease Registry.

Dated: May 14, 2003.
Alvin Hall,
Director, Management Analysis and Services Office, Centers for Disease Control and Prevention.

[FR Doc. 03-12706 Filed 5-20-03; 8:45 am]

BILLING CODE 4163-18-P